DEPARTMENT OF LABOR

Office of the Secretary

Notice of Intent To Fund the International Labor Organization

AGENCY: Bureau of International Labor Affairs, U.S. Department of Labor.

ACTION: Notice of Intent to award up to a total of $5 million to the International Labor Organization (ILO). Up to $3 million is designated for the purpose of supporting a program to benchmark and verify progress made in building the capacity of CAFTA-DR countries to implement their labor laws consistent with international standards and up to $2 million is designated for the purpose of training labor court judges, lawyers, court administrators, and others involved in the administration of labor justice in CAFTA-DR countries.

SUMMARY: Benchmarking/verification: The free trade agreement between the United States and the CAFTA-DR countries establishes a commitment to effectively enforce domestic labor laws. This program will measure and evaluate progress by the CAFTA-DR countries as they strive to improve implementation of their labor laws consistent with international standards.

Specifically, the program will create a series of benchmarks and measurements related to compliance with internationally recognized labor rights. These tools will be used to evaluate the implementation of the recommendations established in the “White Paper” (developed by the Trade and Labor Ministry officials of the countries), as well as improvements to institutional capacities of government mechanisms for the sustainable implementation of labor law. A verification report will be produced and made publicly available on a semi-annual basis.

Labor Justice Training: Increasing knowledge throughout the judicial system of core labor standards and the laws and regulations in place to support them is critical to success. An efficient and effective labor justice system is also of great importance. Training needed to assure these outcomes may include:

• Training in internationally recognized labor standards of the International Labor Organization, as well as training on the ILO's system for overseeing labor rights;

• Training in the national level obligations entailed in country ratification of ILO conventions.

• Training in the application of ILO core labor standards through domestic legislation and regulation. This includes relevant

(a) Training in oral litigation procedures, legal writing and proper jurisprudence procedures;

(b) Training and technical assistance to support linkages between the formal court system, alternative dispute resolution systems, and the enforcement process taking place within labor ministries to ensure consistency with international standards; and

(c) Training and technical assistance to strengthen alternative dispute systems, or other arbitration and mediation mechanisms dealing with labor issues that are specifically associated with the judicial system.

FOR FURTHER INFORMATION CONTACT: Mr. Eric Vogt, E-mail address: Vogt.Eric@dol.gov. Grant Officer, U.S Department of Labor, Office of the Assistant Secretary, 200 Constitution Ave, DC 20210. Telephone: (202) 693-4750.

Eric F. Vogt,
Grant Officer, U.S. Department of Labor.

[FR Doc. E6-3826 Filed 3-15-06; 8:45 am]

BILLING CODE 4510-28-P